DEPARTMENT OF JUSTICE

Office of Justice Programs

[OMB Number 1121-0243]

Agency Information Collection Activities: Proposed Collection; Comments Requested

ACTION: 30-Day Notice of Information Collection Under Review: Grants Management System Online Application.

The Department of Justice (DOJ), Office of Justice Programs, will be submitting the following information collection to the Office of Management and Budget (OMB) for review and approval in accordance with the Paperwork Reduction Act of 1995. The proposed information collection is published to obtain comments from the public and affected agencies. This proposed information collection was published in the Federal Register Volume 74, Number 36, page 8569-8570 on February 25, 2009, allowing for a 60 day public comment period.

The purpose of this notice is to allow an additional 30 days for public comments until June 3, 2009. This process is in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following points:

(1) Evaluate whether the proposed collections of information are necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Overview of this information collection:

(1) Type of Information Collection: Extension of a currently approved collection.

(2) Title of the Form/Collection: Grants Management System Online Application.

(3) Agency form number, if any, and the applicable component of the Department of Justice sponsoring the collection: There is no form number, Office of Justice Programs, United States Department of Justice.

(4) Affected public who will be asked to respond, as well as a brief abstract:

Primary: The primary respondents are State, Local or Tribal Governments applying for grants. GMS is used to implement the statutory requirements of the Grant Management System (GMS) Online Application; Grant Adjustment Notice (GAN); Progress and Financial Reports of applications, awards, and closeouts.

(5) An estimate of the total number of respondents and the amount of time needed for an average respondent to respond to both forms: An estimated 34,097 grantees will respond to Grants Management System Online Application and on average it will take each of them 12 hours to complete the 4 applications.

(6) An estimate of the total public burden (in hours) associated with the collection: The estimated public burden associated with this application is 137,238 hours.

If additional information is required, contact: Ms. Lynn Bryant, Department Clearance Officer United States Department of Justice, Justice Management Division, Policy and Planning Staff, Patrick Henry Building, Suite 1600, 601 D Street, NW., Washington, DC 20530.

Dated: April 28, 2009.
Lynn Bryant,
Department Clearance Officer, PRA, United States Department of Justice.

[FR Doc. E9-10132 Filed 5-1-09; 8:45 am]

BILLING CODE 4410-18-P